Proclamation 9181 of September 30, 2014

National Domestic Violence Awareness Month, 2014

By the President of the United States of America

A Proclamation

Domestic violence affects every American. It harms our communities, weakens the foundation of our Nation, and hurts those we love most. It is an affront to our basic decency and humanity, and it must end. During National Domestic Violence Awareness Month, we acknowledge the progress made in reducing these shameful crimes, embrace the basic human right to be free from violence and abuse, and recognize that more work remains until every individual is able to live free from fear.

Last month, our Nation marked the 20th anniversary of the Violence Against Women Act (VAWA). Before this historic law, domestic violence was seen by many as a lesser offense, and women in danger often had nowhere to go. But VAWA marked a turning point, and it slowly transformed the way people think about domestic abuse. Today, as 1 out of every 10 teenagers are physically hurt on purpose by someone they are dating, we seek to once again profoundly change our culture and reject the quiet tolerance of what is fundamentally unacceptable. That is why Vice President Joe Biden launched the 1is2many initiative to engage educators, parents, and students while raising awareness about dating violence and the role we all have to play in stopping it. And it is why the White House Task Force to Protect Students from Sexual Assault and the newly launched “It's On Us” campaign will address the intersection of sexual assault and dating violence on college campuses.

Since VAWA's passage, domestic violence has dropped by almost two-thirds, but despite these strides, there is more to do. Nearly two out of three Americans 15 years of age or older know a victim of domestic violence or sexual assault, and domestic violence homicides claim the lives of three women every day. When women and children are deprived of a loving home, legal protections, or financial independence because they fear for their safety, our Nation is denied its full potential.

My Administration is committed to reaching a future free of domestic violence. We are building public-private partnerships to directly address domestic violence in our neighborhoods and workplaces, and we are helping communities use evidence-based screening programs to prevent domestic violence homicides. At the same time, the Federal Government is leading by example, developing policies to ensure domestic violence is addressed in the Federal workforce. New protections under the Affordable Care Act provide more women with access to free screenings and counseling for domestic violence. And when I proudly reauthorized VAWA last year, we expanded housing assistance; added critical protections for lesbian, gay, bisexual, and transgender Americans; and empowered tribal governments to protect Native American women from domestic violence in Indian Country. Our Nation's success can be judged by how we treat women and girls, and we must all work together to end domestic violence. As we honor the advocates and victim service providers who offer support during the darkest moments of someone's life, I encourage survivors and their loved ones who are seeking assistance to reach out by calling the National Domestic Violence Hotline at 1-800-799-SAFE or visiting www.TheHotline.org.

This month, we recognize the survivors and victims of abuse whose courage inspires us all. We recommit to offering a helping hand to those most in need, and we remind them that they are not alone.

NOW, THEREFORE, I, BARACK OBAMA, President of the United States of America, by virtue of the authority vested in me by the Constitution and the laws of the United States, do hereby proclaim October 2014 as National Domestic Violence Awareness Month. I call on all Americans to speak out against domestic violence and support local efforts to assist victims of these crimes in finding the help and healing they need.

IN WITNESS WHEREOF, I have hereunto set my hand this thirtieth day of September, in the year of our Lord two thousand fourteen, and of the Independence of the United States of America the two hundred and thirty-ninth.

[FR Doc. 2014-23867

Filed 10-2-14; 11:15 am]

Billing code 3295-F4